FEDERAL COMMUNICATIONS COMMISSION

47 CFR Chapter I

[CC Docket No. 01-92; DA 06-2577]

Developing a Unified Intercarrier Compensation Regime

AGENCY: Federal Communications Commission.

ACTION: Proposed rule, reopening of reply comment period.

SUMMARY: This document grants a motion requesting additional time to file reply comments on an intercarrier compensation reform plan, the “Missoula Plan.” The Order modifies the pleading cycle by reopening the comment period in order to facilitate the development of a more accurate and complete record in this proceeding.

DATES: Submit reply comments on or before February 1, 2007.

ADDRESSES: You may submit comments, identified by CC Docket No. 01-92, by any of the following methods:

• Federal eRulemaking Portal: http://www.regulations.gov. Follow the instructions for submitting comments.

• Federal Communications Commission Web Site: http://www.fcc.gov. Follow the instructions for submitting comments on the Electronic Comment Filing System (ECFS) http://www.fcc.gov/cgb/ecfs/.

• E-mail: To victoria.goldberg@fcc.gov. Include CC Docket 01-92 in the subject line of the message.

• Fax: To the attention of Victoria Goldberg at 202-418-1567. Include CC Docket 01-92 on the cover page.

• Mail: Parties should send a copy of their filings to Victoria Goldberg, Pricing Policy Division, Wireline Competition Bureau, Federal Communications Commission, Room 5-A266, 445 12th Street, SW., Washington, DC 20554.

• Hand Delivery/Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

• People with Disabilities: To request materials in accessible formats for people with disabilities (braille, large print, electronic files, audio format), send an e-mail to fcc504@fcc.gov or call the Consumer & Governmental Affairs Bureau at 202-418-0530 (voice), 202-418-0432 (tty).

Instructions: All submissions received must include the agency name and docket number. All comments received will be posted without change to http://www.fcc.gov/cgb/ecfs/, including any personal information provided. For detailed instructions on submitting comments and additional information on the rulemaking process, see the Public Notice requesting comment on the Missoula Plan. 71 FR 45510, August 9, 2006.

FOR FURTHER INFORMATION CONTACT: Jennifer McKee, Wireline Competition Bureau, Pricing Policy Division, (202) 418-1520, or Victoria Goldberg, Wireline Competition Bureau, Pricing Policy Division, (202) 418-7353.

SUPPLEMENTARY INFORMATION: This is a summary of the Commission's Order [DA 06-2577] released December 22, 2006. The complete text of the Order is available for inspection and copying during business hours at the FCC Reference Information Center, Portals II, 445 12th St., SW., Room CY-A257, Washington, DC 20554. The complete text of this document also may be purchased from the Commission's copy contractor, Best Copy and Printing, Inc., 445 12th Street, SW., Room, CY-B402, Washington, DC 20554. The complete text may also be downloaded at: http://www.fcc.gov. By the Order, the Wireline Competition Bureau (WCB) grants a motion requesting an additional extension of the date for filing reply comments on an intercarrier compensation plan called the “Missoula Plan.” The Missoula Plan was filed on July 24, 2006 by the National Association of Regulatory Utility Commissioners' Task Force on Intercarrier Compensation. On July 25, 2006, the WCB released a Public Notice requesting that comments on the Missoula Plan be filed by September 25, 2006, and reply comments by November 9, 2006. 71 FR 45510, August 9, 2006. On August 29, 2006, WCB released an order granting extensions of the comment and reply comment filing dates to October 25, 2006 and December 11, 2006. 71 FR 54008, September 13, 2006. Over 110 parties filed initial comments on or before October 25, 2006. On November 17, 2006, NARUC filed a motion requesting a further extension of the reply comment date to January 11, 2007, which was granted. 71 FR 70709, December 6, 2006. On December 20, 2006, the Indiana Utility Regulatory Commission, the Maine Public Utilities Commission, the Montana Public Service Commission, the Nebraska Public Service Commission, the Vermont Department of Public Service, the Vermont Public Service Board, and the Wyoming Public Service Commission (the “Early Adopter Regulatory Commissions”) filed a Motion for Extension of Time requesting an additional extension for all reply comments to February 1, 2007.

The WCB determined that providing additional time to file reply comments will facilitate the development of a more accurate and complete record in this proceeding. Although it is the policy of the Commission that extensions of time shall not be routinely granted, the WCB determined that given the extensive nature of the record and the potential effects of the Missoula Plan, good cause exists to provide parties an additional extension of time, from January 11, 2007 to February 1, 2007, for filing reply comments in this proceeding.

Accordingly, it is ordered that, pursuant to §§ 4(i), 4(j), and 5(c) of the Communications Act, 47 U.S.C. 154(i), 154(j), 155(c), and §§ 0.91, 0.291, and 1.46 of the Commission's rules, 47 CFR 0.91, 0.291, 1.46, the pleading cycle established in this matter shall be modified as follows:

Reply Comments Due: February 1, 2007.

All other filing procedures remain unchanged from those previously established in this proceeding.

It is further ordered that the Motion of the Early Adopter Regulatory Commissions for Extension of Time is granted, as set forth herein.

Federal Communications Commission.
Thomas J. Navin,
Chief, Wireline Competition Bureau.

[FR Doc. E7-621 Filed 1-17-07; 8:45 am]

BILLING CODE 6712-01-P